DEPARTMENT OF ENERGY

Federal Energy Regulatory Commission

[Docket No. RP00-174-000]

Williston Basin Interstate Pipeline Company; Notice of Tariff Filing

February 2, 2000.

Take notice that on January 27, 2000, Williston Basin Interstate Pipeline Company (Williston Basin), tendered for filing to become part of its FERC Gas Tariff, Second Revised Volume No. 1, Sixth Revised Sheet No. 288A, to become effective February 1, 2000.

Williston Basin states that on January 18, 2000, it filed with the Commission, pursuant to Order Nos. 636, et seq., and Subsection 39.3.1 of the General Terms and Conditions of Williston Basin's FERC Gas Tariff, Second Revised Volume No. 1, certain tariff sheets to implement the recovery of Gas Supply Realignment Transition Costs. The tariff sheets in the referenced filing proposed a new reservation charge surcharge of 43.714 cents per equivalent dekatherm of Maximum Daily Delivery Quantity applicable to firm transportation service and a new GSR unit rate of 0.441 cents per dekatherm applicable to Rate Schedule IT-1.

Williston Basin also states it has come to its attention that it inadvertently neglected to include reference to the GSR surcharge in Subsection 21.6.1, of the General Terms and Conditions of its Tariff. Williston Basin states that it is filing Sixth Revised Sheet No. 288A to include reference to the GSR surcharge in Subsection 21.6.1, Reservation Rate Discounts, of the General Terms and Conditions of its Tariff.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-2791 Filed 2-7-00; 8:45 am]

BILLING CODE 6717-01-M